DEPARTMENT OF DEFENSE

Department of the Navy

Notice of Intent To Grant Exclusive Patent License; Distilled Solutions, LLC

AGENCY: Department of the Navy, DoD.

ACTION: Notice.

SUMMARY: The Department of the Navy hereby gives notice of its intent to grant to Distilled Solutions, LLC a revocable, nonassignable, exclusive license to practice in the United States, the Government-owned invention described in U.S. Patent No. 6,893,540, entitled “High Temperature Peltier Effect Water Distiller,” issued May 17, 2005, Navy Case No. 82,363.

DATES: Anyone wishing to object to the grant of this license must file written objections along with supporting evidence, if any, not later than March 25, 2010.

ADDRESSES: Written objections are to be filed with the Naval Surface Warfare Center Panama City, 110 Vernon Ave., Code CDL, Panama City, FL 32407-7001.

FOR FURTHER INFORMATION CONTACT: Mr. James Shepherd, Patent Counsel, Naval Surface Warfare Center Panama City, 110 Vernon Ave., Panama City, FL 32407-7001, telephone 850-234-4646, fax 850-235-5497, or james.t.shepherd@navy.mil.

Authority: 35 U.S.C. 207, 37 CFR part 404.

Dated: March 2, 2010.
A.M. Vallandingam,
Lieutenant Commander, Office of the Judge Advocate General, U.S. Navy, Federal Register Liaison Officer.

[FR Doc. 2010-5089 Filed 3-9-10; 8:45 am]

BILLING CODE 3810-FF-P